DEPARTMENT OF THE TREASURY

Internal Revenue Service

26 CFR Part 1

[TD 9534]

RIN 1545-BD81

Methods of Accounting Used by Corporations That Acquire the Assets of Other Corporations; Correction

AGENCY: Internal Revenue Service (IRS), Treasury.

ACTION: Correction to final regulations.

SUMMARY: This document describes corrections to final regulations (TD 9534) relating to the methods of accounting, including the inventory methods, to be used by corporations that acquire the assets of other corporations in certain corporate reorganizations and tax-free liquidations. These regulations were published in the Federal Register on Monday, August 1, 2011.

DATES: This correction is effective on August 31, 2011.

FOR FURTHER INFORMATION CONTACT: Cheryl Oseekey, (202) 622-4970 (not a toll-free number).

SUPPLEMENTARY INFORMATION:

Background

The final regulations (TD 9534) that are the subject of this correction are under sections 381 and 446 of the Internal Revenue Code.

Need for Correction

As published on August 1, 2011 (76 FR 45673), the final regulations (TD 9534) contain errors that may prove to be misleading and are in need of clarification.

Correction of Publication

Accordingly, the publication of the final regulations (TD 9534), which were the subject of FR Doc. 2011-19256, is corrected as follows:

§ 1.381(c)(5)-1 [Corrected]

1. On page 45683, column 1, § 1.381(c)(5)-1(b), first line of the paragraph, the language “(b) Definitions. (1) Inventory method.” is corrected to read “(b) Definitions. For purposes of this section—(1) Inventory method.”.

2. On page 45685, column 1, § 1.381(c)(5)-1(c)(3) Example (6).(i), third sentence of the paragraph, the language “X Corporation's manufacturing business and T Corporation's manufacturing business use, the same methods to capitalize costs under section 263A.” is corrected to read “X Corporation's manufacturing business and T Corporation's manufacturing business use the same methods to capitalize costs under section 263A.”.

LaNita Van Dyke,
Chief, Publications and Regulations Branch, Legal Processing Division, Associate Chief Counsel, (Procedure and Administration).

[FR Doc. 2011-22051 Filed 8-29-11; 8:45 am]

BILLING CODE 4830-01-P